DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below; including the party seeking relief, the regulatory provisions involved, the nature of the relief being requested, and the petitioner's arguments in favor of relief.

Riverport Railroad, LLC

(Waiver Petition Docket Number FRA-2008-0028)

The Riverport Railroad, LLC (RVPR), a Class III railroad, seeks a waiver of compliance from the requirements of Part 223—Safety Glazing Standards 49 CFR 223.11 Requirements for existing locomotives. Specifically, RVPR has petitioned FRA for a waiver for three (3) 60-ton 500 horsepower diesel electric locomotives numbered 4029, 1251, and 1273. These locomotives were built for the Department of Defense (DoD) by Baldwin-Lima-Hamilton in 1953-54, and remanufactured by DoD circa 1987-90. RVPR operates these locomotives on a terminal/switching railroad at the former Savanna [IL] Army Ordnance Depot, presently controlled by the Jo Daviess/Carroll County Local Redevelopment Authority. RVPR operates at speeds of 10 miles per hour (or less) storing cars for customers, and servicing a railcar repair facility.

RVPR states that all adjoining land to the railroad is controlled by itself, or privately owned and access controlled. All trackage is enclosed, and there are no overhead structures or bridges from where objects could be thrown. Interchange to the general system is accomplished with BNSF Railway on five interchange tracks at Robinson Spur, Illinois.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0028) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on March 19, 2008.
Grady C. Cothen, Jr.,
Deputy Associate Administrator for Safety Standards and Program Development.

[FR Doc. E8-6006 Filed 3-24-08; 8:45 am]

BILLING CODE 4910-06-P